DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 64 FR 59774, dated November 3, 1999) is amended to reflect the establishment of the Division of Applied Research and Technology by merging the Division of Biomedical and Behavioral Science and the Division of Physical Sciences and Engineering, National Institute for Occupational Safety and Health (NIOSH).

Section C-B, Organization and Functions, is hereby amended as follows:

Delete in their entirety the titles and functional statements for the Division of Biomedical and Behavioral Science (CC7) and the Division of Physical Sciences and Engineering (CC8) and insert the following:

Division of Applied Research and Technology (CC9). (1) Provides national and international leadership for the prevention of occupational injury and illness through applied research; (2) conducts laboratory research, field studies, and demonstrations to develop and/or evaluate engineering control technology for biological, chemical, physical, and ergonomic hazards; (3) conducts laboratory research, field studies, and demonstrations to develop and/or evaluate work organization or work redesign prevention strategies to eliminate or minimize workplace injury and illness and to facilitate the development of health workplaces; (4) conducts research and demonstration projects to evaluate and improve the effectiveness of occupational health services, and to determine the social and economic burden of occupational illnesses and injuries, and the benefits of interventions; (5) develops, evaluates, and utilizes methods for the measurement of exposures, worker sensitivity to occupational hazards, and detection of the precursors of, or presence of, disease or illness; (6) serves as a resource to researchers who may require division expertise in their field or laboratory research.

Monitoring Research and Statistics Activity (CC92). (1) Plans and conducts laboratory and worksite research to develop, evaluate, or improve aerosol science and its associated technology, and direct-reading instruments and monitoring devices for aerosols; (2) plans and conducts research in statistics as applied to sampling and analytical methods, work organization, intervention effectiveness, and control technologies; (3) develops and evaluates criteria for the recommendation of new or improved monitoring instruments and monitoring techniques; (4) provides statistics support for research projects within the Division; (5) provides technical assistance within NIOSH in the application of new and improved monitoring systems.

Biomonitoring and Health Assessment Branch (CC93). (1) Plans and conducts laboratory and worksite research on the assessment of workers' exposures or effects of exposures, through the analysis of various human tissues and fluids; (2) partners in intervention or prevention studies in which exposure or effect of exposure is assessed through biomonitoring; (3) evaluates worker sensitivity factors that may impact the result of a hazardous exposure; (4) provides technical assistance and consultation to the Institute, other governmental agencies, private industry, and organized labor regarding the toxicologic aspects of workers' response to the etiologic agents in the occupational setting; (5) provides bviomonitoring and health assessment consultation and analyses for health hazard evaluations, epidemiologic, intervention and prevention, environmental measurement and other investigations.

Biological Monitoring Laboratory Section (CC932). (1) Develops and applies new and existing biological monitoring analytical methods to assess worker exposure or body burden to toxic chemicals to evaluate the effectiveness of engineering controls or other exposure reduction/prevention measures; (2) provides analytical and biological monitoring consultation for field and experimental investigations; (3) plans and conducts laboratory research to develop immunochemical methods for determining early health effects arising from occupational exposure; (4) works in partnership with NIOSH partners and stakeholders in planning and conducting studies in specialized areas, such as biological monitoring.

Molecular and Genetic Monitoring Section (CC933). (1) Develops and employs sophisticated and sensitive molecular and biochemical techniques to assess exposure to occupational toxicants; (2) identifies, evaluates, and utilizes biomarkers of exposure and biomarkers of effect of exposure that can be utilized as early indicators of toxic response to aid in the prevention and control of occupational disease; (3) develops and utilizes methods to determine potential differences in workers' sensitivity in response to exposure to occupational toxicants; (4) works in partnership with NIOSH partners and stakeholders in planning and conducting studies in specialized areas, such as biomarker research.

Reproductive Health Assessment Section (CC934). (1) Develops, modifies, and employs laboratory and clinical measures of human health surveillance and field study investigations of workplace hazards; (2) plans and conducts the laboratory portion of health assessments with other NIOSH staff involved in health hazard evaluations and epidemiologic studies of reproductive health and endocrine function; (3) works in partnership with NIOSH partners and stakeholders in planning and conducting studies of reproductive health and endocrine function.

Chemical Exposure and Monitoring Branch (CC94). (1) Conducts research that develops, improves, and evaluates analytical methods for the determination of toxic materials, their products, and other significant hazards found in the workplace, in the physical environment, and in industrial and biologic materials; (2) provides industrial hygiene measurement consultation and specialty analyses to NIOSH research though in-house and contract laboratories; (3) provides expert consultation regarding science and analytical methods to assist in the development of occupational health documents and exposure standards; (4) conducts research to improve, evaluate, and establish performance requirements for direct reading instrumentation used in the evaluation and prevention of exposures to hazardous levels of chemical agents; (5) provides validation procedures for sampling and analytical methods; (6) provides special consultation to elements of NIOSH and other government agencies; (7) disseminates the information gained during research on sampling and analytical methods by publications in the peer reviewed literature and in the NIOSH Manual of Analytical Methods.

Analytical Chemistry Section (CC942). (1) Conducts research in response to requests from field researchers for the development of new sampling and analytical methods for the detection and quantitation of chemical substances found in the workplace; (2) conducts research to revise/update sampling and analytical methods contained in the NIOSH Manual of Analytical Methods; (3) provides expert consultation on industrial hygiene sampling and analytical chemistry to assist NIOSH investigators in planning field surveys as well as other government agencies and private industry; (4) provides chemical analyses for NIOSH researchers through laboratory contracts and specialty analyses through the in-house laboratories.

Analytical Methods Development Section (CC943). (1) Conducts research that develops, evaluates and improves sampling and analytical methods for the detection and determination of substances and their mixtures found in the workplace, in industrial processes and products, and in environmental samples; (2) conducts research to develop and evaluate instrumentation/techniques for field-portable analytical methods; (3) provides expert consultation in industrial hygiene sampling and analytical chemistry to private industry, consensus standard setting organizations, other government agencies and to elements of NIOSH; (4) provides critical review of chemistry aspects of documents and standards, recommending appropriate sampling and analytical methods.

Qualitative Methods and Complex Mixtures Section (CC944). (1) Conducts research to develop, evaluate, and improve methods for quantitative and qualitative analysis of chemicals and complex mixtures found in the workplace, in industrial processes and products, and in environmental samples; (2) provides qualitative and quantitative analysis of industrial hygiene samples from NIOSH field studies by means of chromatographic/spectrometric analysis; (3) provides expert consultation in chemical analysis to other government agencies and to elements of NIOSH; (4) provides critical review of chemical aspects of criteria documents and standards, and recommends appropriate sampling and analytical methods.

Engineering and Physical Hazards Branch (CC95). (1) Plans and conducts worksite and laboratory research to identify, evaluate, develop and implement technology to prevent workers' exposures to chemical, biological, and physical agents and reduce risks for traumatic and repetitive injuries; (2) plans and conducts worksite and laboratory research to identify hazards and engineering controls related to emerging technologies and changing work environments, including the application of substitution, isolation, and ventilation technology to reduce hazardous exposures; (3) plans and conducts laboratory and worksite research to minimize occupational noise exposures and to develop strategies to prevent occupational hearing loss; (4) plans and conducts worksite and laboratory research on occupational health risks resulting from workers' exposures to physical, chemical, and biological agents; (5) develops or evaluates new or improved instruments and exposure assessment techniques, evaluates criteria for the recommendation of such instruments or techniques, and promotes the transfer of widespread application of effective engineering control measures for safeguarding workers' health; (6) provides expert consultation to elements of NIOSH, other agencies, and external partners, in the application of new and improved techniques for hazard prevention and engineering control for the formulation of effective and credible workplace standards.

Control Technology Section (CC952). (1) Conducts laboratory and worksite research to assess potential occupational health problems resulting from workers' exposures to chemical, biological, and ergonomic hazards; (2) conducts laboratory and worksite research in substitution, isolation, and ventilation technology; (3) conducts laboratory and worksite research for controlling potential hazards in emerging technologies and changing workplace environments; (4) provides engineering expertise in formulating effective and feasible workplace standards; (5) provides technical consultation to other elements of NIOSH and external partners in the application of new and improved techniques for hazard prevention.

Engineering Assessment Section (CC953). (1) Plans and conducts worksite research to assess, demonstrate, or develop engineering control techniques for hazardous materials, industries, or processes; (2) plans and conducts field research in partnership with other NIOSH divisions and industry; (3) promotes the transfer and widespread application of effective preventive engineering control measures for safeguarding worker health; (4) provides engineering expertise in formulating effective and feasible workplace standards; (5) provides technical consultation to other elements of NIOSH and external partners in the application of new and improved techniques for hazard prevention.

Hearing Loss Prevention Section (CC954). (1) Plans and conducts laboratory and worksite research in hearing loss prevention that encompasses the study of basic etiology, control technology, personal protective equipment, and intervention effectiveness; (2) collects and evaluates data fundamental to defining primary health risk criteria and specifying standards for preventing hearing loss from exposures to physical agents, such as noise, vibration, and heat, as well as from exposures to ototoxic chemical agents; (3) assesses impact of noise on communication and environmental awareness, which may create safety hazards, and develops ameliorative methods; (4) studies and develops methods pertinent to hearing-impaired workers for assessing communication handicap, for developing hearing protection strategies, for defining hearing critical jobs, and for remediating hearing loss with rehabilitation, including amplification; (5) evaluates, develops, and implements instrumentation, methodologies, and techniques for measurement, control, and programmatic intervention demanded by the research effort; (6) maintains liaison and cooperates with other organizational components of NIOSH, Federal, State, local, and international agencies on problems associated with potential health and other occupational hazards that result from exposure to noise and other ototoxic agents, and provides technical assistance as necessary.

Nonionizing Radiation Section (CC955). (1) Plans and conducts laboratory and worksite research on occupational health risks resulting from workers' exposures to nonionizing radiation, including those hazards produced by emerging technologies; (2) develops and evaluates techniques, instrumentation, and methodologies for measurement and evaluation of worker exposures to nonionizing radiation which present a potential health hazard; (3) develops occupational health and safety criteria and procedures for reducing nonionizing radiation exposures associated with risks of adverse health effects; (4) develops and evaluates controls, methodologies, and practices for minimizing exposures to nonionizing radiation; (5) provides expert consultation to other components of NIOSH, other agencies and external partners in dealing with problems associated with potential hazards resulting from nonionizing radiation exposures.

Engineering Development Section (CC956). (1) Plans and conducts worksite and laboratory research to assess, demonstrate, or develop engineering control techniques for hazardous materials, industries, or processes; (2) conducts computational fluid dynamics (CFD) for design and evaluation of workplace controls; (3) promotes the transfer and widespread application of effective preventive engineering control measures for safeguarding worker health; (4) provides engineering expertise in formulating effective and feasible workplace standards; (5) provides technical consultation to other elements of NIOSH and external partners in the application of new and improved techniques for hazard prevention; (6) provides maintenance and calibration of field and laboratory equipment.

Organizational Science and Human Factors Branch (CC96). (1) Conducts applied laboratory and worksite research on organizational and ergonomic interventions to prevent occupational illness and injury, including physical, neurobehavioral, and psychological disorders, and the economic, social, and organizational burdens associated with these outcomes. Organizational and ergonomic topics of study include management, supervisory, and employment practices; worker demographics and special populations; job, tool, and environmental design; design of health and safety services; and the interaction of these conditions. The scope of research includes (a) etiologic and health effects studies to serve as the basis for intervention strategies; (b) design and testing of prototype interventions in laboratory and controlled environments, and collaboration with external partners and organizations to field test and validate, and disseminate intervention techniques; (c) methodological research to better characterize exposures, outcomes, and their relationships; (2) provides technical assistance to other NIOSH and governmental units and to private organizations in the investigation of organizational and ergonomic stressors in the workplace and in the design and testing of prevention measures; (3) develops and disseminates scientific and technical reports on organizational and physical risk factors at work, and intervention strategies.

Human Factors and Ergonomics Research Section (CC962). (1) Plans and conducts integrated laboratory and field studies to develop and evaluate ergonomic interventions for preventing musculoskeletal injuries, neurobehavioral illnesses, fatigue, and social, economic and other losses resulting from exposure to physical, environmental and organizational stressors at work; (2) plans and conducts etiologic studies to provide the foundation for the development of ergonomic interventions, including laboratory and worksite research to assess the individual and interactive effects of physical stressors (excessive force, posture, etc.) and organizational stressors (e.g., long work hours, time pressure) on occupational injury and illness risk: (3) plans and conducts research leading to improved methods for exposure assessment to physical stressors and characterizing dose-response relationships; (4) provides assistance to other organizational units of NIOSH and to other Federal agencies in the assessment and prevention of risk for occupational injury and illness.

Health Services Research Section (CC963). (1) Plans and conducts research to evaluate and improve the effectiveness of occupational health care services, including access to and utilization of health care services, availability of trained health professionals and providers, and efficacy and efficiency of care; (2) conducts intervention research (intervention development, demonstration, and effectiveness research) to evaluate occupational health services and occupational health delivery systems and programs, including the social, economic, and organizational benefits of these services and programs; (3) provides technical assistance and collaborates with external organizations, including academia, industry, labor, and health care provider organizations in the implementation, evaluation and promotion of innovative occupational health services and occupational safety and health programs; (4) conducts research to evaluate the economic and social outcomes of occupational illnesses and injuries, and the benefits of interventions.

Work Organization and Stress Research Section (CC964). (1) Plans and conducts laboratory and field studies to characterize organizational stressors in the workplace and worker demographic factors such as race, ethnicity, gender, culture, age, etc., to study the effects and interactive effects of these variables on stress, illness, injury, and disability, and on social, economic and family outcomes, and to develop and test intervention strategies; (2) conducts survey studies to identify emerging work organization risk factors and related developments (new organizational structures and process changing employment relationships such as contingent labor arrangements, increasing workforce diversity and changing worker demographics) and investigate their effects on worker health, injury and other outcomes; (3) collaborates with external organizations to develop field-test and disseminate work organization, workforce development, and related interventions that promote worker health, safety, and other desirable outcomes; (4) provides technical assistance inside and outside of NIOSH in the conduct of etiologic and intervention studies addressing work organization and related factors.

Dated: January 18, 2000.
Jeffrey P. Koplan,
Director.

[FR Doc. 00-2212 Filed 2-1-00; 8:45 am]

BILLING CODE 4160-18-M